NATIONAL SCIENCE FOUNDATION

National Science Board ad hoc Committee for the Vannevar Bush Award; Sunshine Act Meetings; Notice

The National Science Board's ad hoc Committee for the Vannevar Bush Award, pursuant to NSF regulations (45 CFR Part 614), the National Science Foundation Act, as amended (42 U.S.C. 1862n-5), and the Government in the Sunshine Act (5 U.S.C. 552b), hereby gives notice in regard to the scheduling of meetings for the transaction of National Science Board business and other matters specified, as follows:

Date and Time: Wednesday, December 3, 2008 at 1 p.m.

Subject Matter: Discussion of candidates for the 2009 Vannevar Bush Award.

Status: Closed.

This meeting will be held by teleconference originating at the National Science Board Office, National Science Foundation, 4201 Wilson Blvd., Arlington, VA 22230. Please refer to the National Science Board Web site (http://www.nsf.gov/nsb) for information or schedule updates, or contact: Jennifer Richards, National Science Board Office, 4201 Wilson Blvd., Arlington, VA 22230. Telephone: (703) 292-7000.

Ann Ferrante,
Writer-Editor.

[FR Doc. E8-27876 Filed 11-21-08; 8:45 am]

BILLING CODE 7555-01-P